DEPARTMENT OF THE INTERIOR

National Park Service

[N6478; NPS-WASO-NAGPRA-NPS0040986; PPWOCRADN0-PCU00RP14.R50000]

Notice of Inventory Completion: Mukwonago Community Library, Mukwonago, WI

AGENCY: National Park Service, Interior.

ACTION: Notice.

SUMMARY: In accordance with the Native American Graves Protection and Repatriation Act (NAGPRA), the Mukwonago Community Library has completed an inventory of associated funerary objects and has determined that there is a cultural affiliation between the associated funerary objects and Indian Tribes or Native Hawaiian organizations in this notice.

DATES: Repatriation of the associated funerary objects in this notice may occur on or after October 10, 2025.

ADDRESSES: Send written requests for repatriation of the associated funerary objects in this notice to Abby Armour, Mukwonago Community Library, 511 Division Street, Mukwonago, WI 53149, email nagpra@mukwonagolibrary.org.

SUPPLEMENTARY INFORMATION: This notice is published as part of the National Park Service's administrative responsibilities under NAGPRA. The determinations in this notice are the sole responsibility of the Mukwonago Community Library and additional information on the determinations in this notice, including the results of consultation, can be found in the inventory or related records. The National Park Service is not responsible for the determinations in this notice.

Abstract of Information Available

Based on the information available, nine associated funerary objects from Sand Cove Site (CA-SAC-164), Sacramento County, CA have been reasonably identified. On an unknown date, the associated funerary objects were removed from the Sand Cove Site by an unknown individual. On a date prior to 1965, Arthur Grutzmacher, a collector and dealer from Mukwonago, WI, obtained the associated funerary objects. Following his death in 1965, the associated funerary objects were bequeathed to the Mukwonago Community Library. The nine associated funerary objects are six lots of red and white beads and three lots of white beads. The Mukwonago Community Library has no knowledge of any potentially hazardous substances used to treat the associated funerary objects.

Based on the information available, 29 associated funerary objects likely from the Sand Cove Site (CA-SAC-164) or Bennett Mound (CA-SAC-16), Sacramento County, CA have been reasonably identified. On an unknown date, the associated funerary objects were likely removed from Sand Cove or Bennett Mound by Jeremiah B. Lillard or another collector in California. On a date prior to 1965, Arthur Grutzmacher, a collector and dealer from Mukwonago, WI, obtained the associated funerary objects. Following his death in 1965, the associated funerary objects were bequeathed to the Mukwonago Community Library. The Mukwonago Community Library published a Notice of Inventory Completion for three associated funerary objects in June 2024 from Bennett Mound (CA-SAC-16). After additional Tribal consultation regarding the items in the Grutzmacher collection in November 2024, additional associated funerary objects to likely be from Bennett Mound or the Sand Cove Site were identified. The 29 associated funerary objects are three lots of modified abalone shell, 22 lots of shell and glass beads, one stone bead, and three bone tubes. The Mukwonago Community Library has no knowledge of any potentially hazardous substances used to treat the associated funerary objects.

Cultural Affiliation

Based on the information available and the results of consultation, cultural affiliation is clearly identified by the information available about the associated funerary objects described in this notice.

Determinations

The Mukwonago Community Library has determined that:

• The 38 objects described in this notice are reasonably believed to have been placed intentionally with or near individual human remains at the time of death or later as part of the death rite or ceremony.

• There is a reasonable connection between the associated funerary objects described in this notice and the Buena Vista Rancheria of Me-Wuk Indians of California; California Valley Miwok Tribe, California; Chicken Ranch Rancheria of Me-Wuk Indians of California; Ione Band of Miwok Indians of California; Jackson Band of Miwuk Indians; Shingle Springs Band of Miwok Indians, Shingle Springs Rancheria (Verona Tract), California; Tuolumne Band of Me-Wuk Indians of the Tuolumne Rancheria of California; United Auburn Indian Community of the Auburn Rancheria of California; and the Wilton Rancheria, California.

Requests for Repatriation

Written requests for repatriation of the associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the associated funerary objects in this notice to a requestor may occur on or after October 10, 2025. If competing requests for repatriation are received, the Mukwonago Community Library must determine the most appropriate requestor prior to repatriation. Requests for joint repatriation of the associated funerary objects are considered a single request and not competing requests. The Mukwonago Community Library is responsible for sending a copy of this notice to the Indian Tribes and Native Hawaiian organizations identified in this notice.

Authority: Native American Graves Protection and Repatriation Act, 25 U.S.C. 3003, and the implementing regulations, 43 CFR 10.10.

Dated: August 21, 2025.
Melanie O'Brien,
Manager, National NAGPRA Program.

[FR Doc. 2025-17364 Filed 9-9-25; 8:45 am]

BILLING CODE 4312-52-P